ENVIRONMENTAL PROTECTION AGENCY

40 CFR Part 62

[IN156-1b; FRL-7512-5]

Approval and Promulgation of Implementation Plans; Indiana; Plan for Controlling Emissions From Existing Commercial and Industrial Solid Waste Incinerators

AGENCY: Environmental Protection Agency (EPA).

ACTION: Proposed rule.

SUMMARY: The EPA is proposing to approve, through direct final procedure, the Commercial and Industrial Solid Waste Incineration plan submitted by the Indiana Department of Environmental Management (IDEM). The implementation plan affects selected incineration units and was submitted to EPA in a letter from Janet G. McCabe, IDEM Assistant Commissioner on December 30, 2002, following the required public process. The intent of Indiana's action is to satisfy a Federal requirement to develop a plan as protective as the emission guideline contained in Subpart DDDD, to control emissions from these categories of sources in order to protect public health and reduce exposure to air pollution including several hazardous pollutants. EPA is approving this plan because it fulfills the requirements of sections 111 and 129 of the Clean Air Act.

In the Final Rules section of this Federal Register, EPA is approving the State plan for CISWI as a direct final rule without prior proposal because we view this action as noncontroversial and anticipate no adverse comments. If no written adverse comments are received in response to the direct final rule, no further activity is contemplated in relation to this proposed rule. If EPA receives meaningful written adverse comments, the direct final rule will be withdrawn and all public comments received will be addressed in a subsequent final rule based on this proposed rule. If no adverse written comments are received, the direct final rule will take effect on the date stated in that document and no further activity will be taken on this proposed rule. Any party interested in commenting on this action should do so at this time.

DATES: Comments on this action must be received by July 14, 2003.

ADDRESSES: Written comments should be mailed to: J. Elmer Bortzer, Chief, Regulation Development Section, Air Programs Branch (AR-18J), USEPA, Region 5, 77 West Jackson Boulevard, Chicago, Illinois 60604.

A copy of the Indiana request for revision to the State plan is available for inspection at the above address.

FOR FURTHER INFORMATION CONTACT: John Paskevicz, Environmental Engineer, Regulation Development Section, Air Programs Branch (AR-18J), USEPA, Region 5, 77 West Jackson Boulevard, Chicago, Illinois 60604, (312) 886-6084.

SUPPLEMENTARY INFORMATION:

I. What action is EPA taking today?

II. Where can I find more information about this proposal and corresponding direct final rule?

I. What Action Is EPA Taking Today?

The EPA is proposing to approve a revision to the Indiana plan submitted by the State which demonstrates the Indiana plan will protect the public health of the citizens of Indiana by reducing emissions of air pollutants including some hazardous pollutants from CISWI sources in the State.

II. Where Can I Find More Information About This Proposal and Corresponding Direct Final Rule?

For additional information see the direct final rule published in the rules section of this Federal Register.

Authority: 42 U.S.C. 4201-7601q. et seq.

Dated: May 29, 2003.
Bharat Mathur,
Acting Regional Administrator, Region 5.

[FR Doc. 03-14872 Filed 6-11-03; 8:45 am]

BILLING CODE 6560-50-P